DEPARTMENT OF ENERGY

Federal Energy Regulatory Commission

Combined Notice of Filings #1

Take notice that the Commission received the following electric corporate filings:

Docket Numbers: EC16-78-000.

Applicants: Tonopah Solar Energy, LLC.

Description: Supplement to February 24, 2016 Application for Authorization Under Section 203 of the Federal Power Act and Request for Expedited Action of Tonopah Solar Energy, LLC.

Filed Date: 3/17/16.

Accession Number: 20160317-5039.

Comments Due: 5 p.m. ET 3/28/16.

Docket Numbers: EC16-88-000.

Applicants: The Empire District Electric Company, Liberty Utilities (Central) Co.

Description: Application for Authorization for Disposition of Jurisdictional Facilities of The Empire District Electric Company, et al.

Filed Date: 3/16/16.

Accession Number: 20160316-5175.

Comments Due: 5 p.m. ET 4/6/16.

Take notice that the Commission received the following electric rate filings:

Docket Numbers: ER14-1776-006; ER14-474-004.

Applicants: Broken Bow Wind II, LLC, Sempra Generation, LLC.

Description: Supplement to December 14, 2015 Updated Market Power Analysis for the Southwest Power Pool Region of Broken Bow Wind II, LLC, et al.

Filed Date: 3/16/16.

Accession Number: 20160316-5172.

Comments Due: 5 p.m. ET 4/6/16.

Docket Numbers: ER15-1882-002.

Applicants: PSEG Energy Resources & Trade LLC.

Description: Compliance filing: Filing in compliance with Feb. 24, 2016 Letter Order to be effective 1/7/2016.

Filed Date: 3/17/16.

Accession Number: 20160317-5036.

Comments Due: 5 p.m. ET 4/7/16.

Docket Numbers: ER16-815-001.

Applicants: Midcontinent Independent System Operator, Inc.

Description: Tariff Amendment: 2016-03-16—Amendment to Ramp True-up Filing to be effective 5/1/2016.

Filed Date: 3/16/16.

Accession Number: 20160316-5150.

Comments Due: 5 p.m. ET 3/31/16.

Docket Numbers: ER16-1209-000.

Applicants: Pacific Gas and Electric Company.

Description: § 205(d) Rate Filing: CDWR Work Performance Agreement for the Thermalito Power Plant (SA 275) to be effective 3/17/2016.

Filed Date: 3/16/16.

Accession Number: 20160316-5158.

Comments Due: 5 p.m. ET 4/6/16.

Docket Numbers: ER16-1210-000.

Applicants: Idaho Power Company.

Description: Initial rate filing: BPA Conditional Firm Service Agreements to be effective 7/1/2016.

Filed Date: 3/16/16.

Accession Number: 20160316-5159.

Comments Due: 5 p.m. ET 4/6/16.

Docket Numbers: ER16-1211-000.

Applicants: Midcontinent Independent System Operator, Inc.

Description: § 205(d) Rate Filing: 2016-03-17_SA 2906 IPL-IPL GIA (J401) to be effective 3/18/2016.

Filed Date: 3/17/16.

Accession Number: 20160317-5052.

Comments Due: 5 p.m. ET 4/7/16.

Docket Numbers: ER16-1212-000.

Applicants: PJM Interconnection, L.L.C.

Description: § 205(d) Rate Filing: First Revised Service Agreement No. 3638; Queue Position AA1-101 to be effective 2/16/2016.

Filed Date: 3/17/16.

Accession Number: 20160317-5087.

Comments Due: 5 p.m. ET 4/7/16.

Docket Numbers: ER16-1213-000.

Applicants: New York Independent System Operator, Inc.

Description: § 205(d) Rate Filing: NYISO 205: Behind the Meter Net Generation to be effective 5/19/2016.

Filed Date: 3/17/16.

Accession Number: 20160317-5090.

Comments Due: 5 p.m. ET 4/7/16.

Docket Numbers: ER16-1214-000.

Applicants: FirstEnergy Solutions Corp.

Description: Request of FirstEnergy Solutions Corp. for Authorization to Make Wholesale Power Sales to Affiliated Utility, West Penn Power Company (10-26-15).

Filed Date: 3/17/16.

Accession Number: 20160317-5104.

Comments Due: 5 p.m. ET 4/7/16.

Docket Numbers: ER16-1215-000.

Applicants: FirstEnergy Solutions Corp.

Description: Request of FirstEnergy Solutions Corp. for Authorization to Make Wholesale Power Sales to Affiliated Utility, West Penn Power Company (1-19-16).

Filed Date: 3/17/16.

Accession Number: 20160317-5110.

Comments Due: 5 p.m. ET 4/7/16.

Docket Numbers: ER16-1216-000.

Applicants: FirstEnergy Solutions Corp.

Description: Request of FirstEnergy Solutions Corp. for Authorization to Make Wholesale Power Sales to Affiliated Utility, The Potomac Edison Company (4-20-15).

Filed Date: 3/17/16.

Accession Number: 20160317-5146.

Comments Due: 5 p.m. ET 4/7/16.

Docket Numbers: ER16-1217-000.

Applicants: FirstEnergy Solutions Corp.

Description: Request of FirstEnergy Solutions Corp. for Authorization to Make Wholesale Power Sales to Affiliated Utility, The Potomac Edison Company (10-21-15).

Filed Date: 3/17/16.

Accession Number: 20160317-5149.

Comments Due: 5 p.m. ET 4/7/16.

Docket Numbers: ER16-1218-000.

Applicants: BE CA LLC.

Description: § 205(d) Rate Filing: Seller Category Change to be effective 5/17/2016.

Filed Date: 3/17/16.

Accession Number: 20160317-5158.

Comments Due: 5 p.m. ET 4/7/16.

Docket Numbers: ER16-1219-000.

Applicants: J.P. Morgan Ventures Energy Corporation.

Description: § 205(d) Rate Filing: Change in Seller Category to be effective 5/17/2016.

Filed Date: 3/17/16.

Accession Number: 20160317-5159.

Comments Due: 5 p.m. ET 4/7/16.

Docket Numbers: ER16-1220-000.

Applicants: Utility Contract Funding, L.L.C.

Description: § 205(d) Rate Filing: Seller Category Change to be effective 5/17/2016.

Filed Date: 3/17/16.

Accession Number: 20160317-5160.

Comments Due: 5 p.m. ET 4/7/16.

Docket Numbers: ER16-1221-000.

Applicants: FirstEnergy Solutions Corp.

Description: Request of FirstEnergy Solutions Corp. for Authorization to Make Wholesale Power Sales to Affiliated Utility, The Potomac Edison Company (6-10-15).

Filed Date: 3/17/16.

Accession Number: 20160317-5161.

Comments Due: 5 p.m. ET 4/7/16.

Take notice that the Commission received the following qualifying facility filings:

Docket Numbers: QF16-547-000.

Applicants: Regents of the University of Minnesota.

Description: Form 556 of Regents of the University of Minnesota.

Filed Date: 3/16/16.

Accession Number: 20160316-5077.

Comments Due: None Applicable.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 17, 2016.
Nathaniel J. Davis, Sr.,
Deputy Secretary.

[FR Doc. 2016-10079 Filed 4-28-16; 8:45 am]

BILLING CODE 6717-01-P